DEPARTMENT OF HEALTH AND HUMAN SERVICES

Administration for Children and Families

[C.F.D.A. Number: 93.591]

Standing Funding Opportunity Announcement for Family Violence Prevention and Services/Grants to State Domestic Violence Coalitions

AGENCY: Family and Youth Services Bureau (FYSB), Administration on Children, Youth, and Families (ACYF), ACF.

ACTION: This notice was originally published as Funding Opportunity Number HHS-2013-ACF-ACYF-SDVC-0562 on March 5, 2013 at http://www.acf.hhs.gov/grants/open/foa/view/HHS-2013-ACF-ACYF-SDVC-0562.

SUMMARY: This notice for family violence prevention and services grants to Coalitions serves four purposes: To confirm a Federal commitment to reducing family violence, domestic violence, and dating violence; to provide for Coalitions to collaborate and coordinate with States, tribes, localities, cities, and the private sector to be involved in State and local planning towards an integrated service delivery approach that meets the needs of all victims, including those in underserved communities and racial and ethnic minorities; to provide training and technical assistance to domestic violence programs and providers of direct services; and to increase public awareness about and prevention of family violence, domestic violence, and dating violence, and increase the quality and availability of immediate shelter and supportive services for victims of family violence, domestic violence, and dating violence, and their dependents.

Statutory Authority: This announcement governs the proposed award of formula grants under the Family Violence Prevention and Services Act (FVPSA) to private, non-profit State Domestic Violence Coalitions (Coalitions). The purpose of these grants is to further the intervention and prevention of family violence, domestic violence, and dating violence (42 U.S.C. 10401, et seq.).

SUPPLEMENTARY INFORMATION:

I. Funding Opportunity Description

Description

Background

The FVPSA authorizes the Department of Health and Human Services (HHS) Secretary to award grants to statewide, private, non-governmental, 501(c)(3) non-profit Coalitions to conduct activities to promote domestic violence intervention and prevention.

Ensuring the Well-Being of Vulnerable Children and Families

The Administration on Children, Youth and Families (ACYF) is committed to facilitating healing and recovery and promoting the social and emotional well-being of children, youth, and families who have experienced maltreatment, exposure to violence, and/or trauma. This funding opportunity announcement (FOA) and other discretionary spending this fiscal year are designed to ensure that effective interventions are in place to build skills and capacities that contribute to the healthy, positive, and productive functioning of families.

Children, youth, and families who have experienced maltreatment, exposure to violence, and/or trauma are impacted along several domains, each of which must be addressed in order to foster social and emotional well-being and promote healthy, positive functioning:

• Understanding Experiences: A fundamental aspect of the human experience is the development of a world view through which one's experiences are understood. Whether that perspective is generally positive or negative impacts how experiences are interpreted and integrated. For example, one is more likely to approach a challenge as a surmountable, temporary obstacle if his or her frame includes a sense that “things will turn out alright.” On the contrary, negative experiences can color how future experiences are understood. Ongoing exposure to family violence might lead children, youth, and adults to believe that relationships are generally hostile in nature and affect their ability to enter into and stay engaged in safe and healthy relationships. Interventions should seek to address how children, youth, and adults frame what has happened to them in the past and shape their beliefs about the future.

• Developmental Tasks: People grow physically and psychosocially along a fairly predictable course, encountering normal challenges and establishing competencies as they pass from one developmental stage to another. However, adverse events have a marked effect on the trajectory of normal social and emotional development, delaying the growth of certain capacities, and, in many cases, accelerating the maturation of others. Intervention strategies must be attuned to the developmental impact of negative experiences and address related strengths and deficits to ensure children, youth, and families develop along a healthy trajectory.

• Coping Strategies: The methods that children, youth, and families develop to manage challenges both large and small are learned in childhood, honed in adolescence, and practiced in adulthood. Those who have been presented with healthy stressors and opportunities to overcome them with appropriate encouragement and support are more likely to have an array of positive, productive coping strategies available to them as they go through life. For children, youth, and families who grew up in or currently live in unsafe, unpredictable environments, the coping strategies that may have been protective in the unsafe environments may not be appropriate for safer, more regulated situations. Interventions should help children, youth, and families transform maladaptive coping methods into healthier, more productive strategies.

• Protective Factors: A wealth of research has demonstrated that the presence of certain contextual factors (e.g., supportive relatives, involvement in after-school activities) and characteristics (e.g., self-esteem, relationship skills) can moderate the impacts of past and future negative experiences. These protective factors are fundamental to resilience; building them is integral to successful intervention with children, youth, and families.

The skills and capacities in these areas support children, youth, and families as challenges, risks, and opportunities arise. In particular, each domain impacts the capacity of children, youth, and families to establish and maintain positive relationships with caring adults and supportive peers. The necessity of these relationships to social and emotional well-being and lifelong success in school, community, and at home cannot be overstated and should be central to all interventions with vulnerable children, youth, and families.

An important component of promoting social and emotional well-being includes addressing the impact of trauma, which can have a profound effect on the overall functioning of children, youth, adults, and families. ACYF promotes a trauma-informed approach, which involves understanding and responding to the symptoms of chronic interpersonal trauma and traumatic stress across the domains outlined above, as well as the behavioral and mental health sequelae of trauma.

ACYF anticipates a continued focus on social and emotional well-being as a critical component of its overall mission to ensure positive outcomes for all children, youth, adults, and families.

Annual State Domestic Violence Coalition Grantee Meeting

Coalitions must send up to two representatives to the annual grantee meeting. Subsequent correspondence will advise Coalitions of the date, time, and location of their grantee meeting.

Role of State Coalitions

FVPSA directs Coalitions to work with family violence, domestic violence, and dating violence service programs and providers of direct services to encourage appropriate and comprehensive responses to family violence, domestic violence, and dating violence against adults or youth within the State involved, specifically including training and technical assistance and conducting State needs assessments (section 10411(d)(1)). Coalitions are required to coordinate and collaborate with the State FVPSA Administrators, community-based programs, and culturally specific organizations, including those serving racial and ethnic minorities, to plan and conduct State needs assessments and participate in State planning processes. These assessments are particularly important, not just, to identify and assess service gaps, but to include a diversity of stakeholders in the planning and decision-making process for needs assessments and to inform State planning. Coalitions must also participate in the planning and monitoring of the distribution of FVPSA subgrants and contracts and the administration of the grant programs and projects awarded by the States to eligible entities (section 10411(d)(2)). Coalitions thus play an important role in helping programs develop and continue practices consistent with FVPSA guidance, including the promotion of trauma-informed services that help facilitate the social and emotional well-being of both victims and their children. Coalitions must include activities to ensure that programs maintain confidentiality and provide widely accessible services consistent with best practices in the field and applicable Federal, State, tribal, and local requirements, as well as helping programs comply with the FVPSA data collection and outcome measurement requirements. Each of these issues is described below:

a. Client Confidentiality

Coalitions have an important role in helping programs develop and continue practices consistent with FVPSA guidance. Programs funded by FVPSA must establish and implement policies and protocols for maintaining the safety, privacy, and confidentiality of adult, youth, and child victims of family violence, domestic violence, and dating violence, and their families (section 10406(c)(5)). Because it is required that the confidentiality of individuals receiving FVPSA services be protected, Coalitions must include activities to ensure that local programs maintain confidentiality consistent with best practices in the field and applicable Federal, State, tribal, and local requirements. It is also highly recommended that the Coalition coordinate and collaborate with the State involving activities to assist programs in maintaining confidentiality requirements pursuant to section 10406(c)(5).

The FVPSA nondisclosure of confidential and private information provisions also mean that domestic violence programs must maintain confidentiality of records pertaining to any individual provided domestic violence services. As a result, individual identifiers in client records may not be disclosed when providing statistical data on program activities and program services. In the annual grantee Performance Progress Report (SF-PPR), States, tribes, and their subgrantees must collect unduplicated data for each program rather than unduplicated data across programs or statewide. No client-level data should be shared with a third party, regardless of encryption, hashing or other data security measures, without a written, time-limited release as described in section 10406(c)(5)(B)(ii).

b. Coordinated and Accessible Services

It is essential that community service providers, including those serving or representing underserved communities, are involved in the design and improvements of intervention and prevention activities to ensure that services are welcoming and accessible. Coordination and collaboration among victim services providers; community-based, culturally specific, and faith-based services providers; housing and homeless services providers: and, Federal, State, tribal, and local public officials and agencies is needed to provide more responsive and effective services to victims of family violence, domestic violence, and dating violence, and their dependents. As coalitions undertake these activities, it is expected that the communities and populations noted above will be included in coalition boards, committees, and other activities to ensure they are part of the decision making to create and maintain fully coordinated and accessible services.

To promote a more effective response to family violence, domestic violence, and dating violence, HHS requires the designated Coalitions receiving funds under this grant announcement to collaborate with tribes and tribal organizations, FVPSA-funded State grantees, service providers, and community-based organizations, to address the needs of family violence, domestic violence, and dating violence victims, and their dependents, who are members of racial and ethnic minority populations and underserved populations (section 10411(d)(3)); examples of such underserved populations include, but are not limited to, the Lesbian, Gay, Bisexual, and Transgender (LGBT) communities; adolescents; male victims; human trafficking victims; and immigrants. Coalition training and technical assistance priorities should focus on building the capacity of domestic violence programs within the State to provide inclusive and culturally relevant services for the underserved populations identified in their planning. All populations identified in planning should also be a part of determining the training and technical assistance priorities to improve the capacity of programs to serve such populations. ACYF/FYSB also strongly encourages Coalitions to consider the needs of LGBT youth and adults and how their programming and, therefore, the training and technical assistance provided member programs, will be inclusive and non-stigmatizing for program participants from these communities.

To serve victims most in need and to comply with Federal law, services must be widely accessible. Services must not discriminate on the basis of age, disability, sex, race, color, national origin, or religion (section 10406(c)(2)). The HHS Office for Civil Rights provides guidance to grantees in complying with civil rights laws that prohibit discrimination on these bases. Please see www.hhs.gov/ocr/civilrights/understanding/index.html. HHS also provides guidance to recipients of Federal financial assistance on meeting the legal obligation to take reasonable steps to provide meaningful access to federally assisted programs by persons with limited English proficiency. Please see www.hhs.gov/ocr/civilrights/resources/laws/revisedlep.html. Additionally, HHS provides guidance regarding access to HHS-funded services for immigrant survivors of domestic violence. Please see www.hhs.gov/ocr/civilrights/resources/specialtopics/origin/domesticviolencefactsheet.html

Services must also be provided on a voluntary basis; receipt of emergency shelter or housing must not be conditioned on participation in supportive services (section 10408(d) (2)).

c. Trauma-Informed Programming

ACYF promotes a trauma-informed approach, which involves understanding and responding to the symptoms of chronic interpersonal trauma and traumatic stress across the lifespan. Coalitions are uniquely situated to provide support to domestic violence programs in order to ensure that trauma-informed interventions are at the core of working with victims and their children. As Coalitions plan their training and technical assistance priorities, they must include responses that help support trauma-informed services among their member programs to ensure positive outcomes for all service populations. Coalitions must also coordinate and collaborate with the Domestic Violence Resource Network (the FVPSA-funded National Resource, Special Issue Resource, and Culturally-Specific Resource Centers) to inform their knowledge and practices to promote trauma-informed interventions among their member programs.

II. Award Information

Subject to the availability of Federal appropriations and as authorized by the FVPSA (section 10403), HHS will make available in FY 2013, 2014, and 2015 grants to the designated, statewide, domestic violence Coalitions described in this announcement. Each year, one grant will be available for one Coalition in each of the 50 States, the Commonwealth of Puerto Rico, and the District of Columbia. One Coalition in each of the U.S. Territories (Guam, U.S. Virgin Islands, Northern Mariana Islands, and American Samoa) is also eligible for a grant award under this announcement.

Length of Project Periods

Coalitions may apply for one grant annually with an accompanying 12-month budget narrative and SF-424. The project period is 24 months under this FOA for each fiscal year. Coalitions must address their anticipated activities for a 2-year project period: (FY 2013) October 1, 2012-September 30, 2014; (FY 2014) October 1, 2013-September 30, 2015; (FY 2015) October 1, 2014-September 30, 2016. FVPSA will continue to disperse funds annually pursuant to annual applications and award processes.

Expenditure Period

The FVPSA funds may be used for expenditures on or after October 1 of each fiscal year for which they are granted and will be available for expenditure through September 30 of the following fiscal year; i.e., FY 2013 funds may be used for expenditures from October 1, 2012, through September 30, 2014; (FY 2014) October 1, 2013-September 30, 2015; (FY 2015) October 1, 2014-September 30, 2016.

III. Eligibility Information

In accordance with sections 10402(11) and 10411(c)(1), to be eligible for grants under this FOA an organization must be designated as a statewide, private, 501(c)(3) nonprofit, non-governmental domestic violence coalition as of the date of this announcement. A list of the designated State domestic violence coalitions is found in Appendix D. Designated coalitions must continue to meet the following criteria:

The membership of the Coalition includes a majority of the primary-purpose domestic violence service providers in the State (a Coalition may include representatives of Indian tribes and tribal organizations as defined in the Indian Self-Determination and Education Assistance Act). A primary-purpose domestic violence service provider is one that operates a project of demonstrated effectiveness, carried out by a nonprofit, nongovernmental, private entity or a tribe or tribal organization, that has as its project's primary purpose the operation of shelters for victims of domestic violence and their dependents; or provides counseling, advocacy, or self-help services to victims of domestic violence;

The board membership of the Coalition is representative of the primary-purpose domestic violence service providers in the State and may include representatives of the communities in which the services are being provided in the State; in order for statewide needs assessments and other organizational and State planning to be fully informed directly by stakeholders from diverse communities, it is expected that the Coalition board will reflect the cultural, racial, and ethnic populations that the Coalition serves throughout the State;

The purpose of the Coalition is to provide education, support, and technical assistance to the primary-purpose domestic violence service providers and providers of direct services in the State in order to establish and maintain shelter and supportive services for victims of domestic violence and their dependents;

The Coalition serves as an information clearinghouse, primary point of contact, and resource center on domestic violence for the State and supports the development of policies, protocols, and procedures to enhance domestic violence intervention and prevention in the State.

Additional Information on Eligibility

DUNS Number Requirement

Data Universal Numbering System (DUNS) Number is the nine-digit, or thirteen-digit (DUNS + 4), number established and assigned by Dun and Bradstreet, Inc. (D&B) to uniquely identify business entities.

All applicants and sub-recipients must have a DUNS number at the time of application in order to be considered for a grant or cooperative agreement. A DUNS number is required whether an applicant is submitting a paper application or using the Government-wide electronic portal, www.Grants.gov. A DUNS number is required for every application for a new award or renewal/continuation of an award, including applications or plans under formula, entitlement, and block grant programs. A DUNS number may be acquired at no cost online at http://fedgov.dnb.com/webform. To acquire a DUNS number by phone, contact the D&B Government Customer Response Center:

U.S. and U.S. Virgin Islands: 1-866-705-5711

Alaska and Puerto Rico: 1-800-234-3867 (Select Option 2, then Option 1)

Monday-Friday 7 a.m. to 8 p.m., CST

The process to request a DUNS Number by telephone will take between 5 and 10 minutes.

SAM Requirement (www.Sam.gov)

The System for Award Management (SAM) at www.sam.gov is a new system that consolidates the capabilities of a number of systems that support Federal procurement and award processes. Phase 1 of SAM includes the capabilities previously provided via Central Contractor Registration (CCR)/Federal Agency Registration (FedReg), Online Representations and Certifications Application (ORCA), and the Excluded Parties List System (EPLS).

SAM is the Federal registrant database and repository into which an entity must provide information required for the conduct of business as a recipient. The former CCR Web site is no longer be available. All information previously held in the Central Contractor Registration (CCR) system has been migrated to SAM.gov.

Applicants may register at www.sam.gov or by phone at 1-866-606-8220. Registration assistance is available through the “Help” tab at www.sam.gov or by phone at 1-866-606-8220.

Applicants are strongly encouraged to register at SAM well in advance of the application due date. Registration at SAM.gov must be updated annually.

Note: It can take 24 hours or more for updates to registrations at SAM.gov to take effect. An entity's registration will become active after 3-5 days. Therefore, check for active registration well before the application due date and deadline. An applicant can view their registration status by visiting http://www.bpn.gov/CCRSearch/Search.aspx and searching by their organization's DUNS number.

See the SAM Quick Guide for Grantees at https://www.sam.gov/sam/transcript/SAM_Quick_Guide_Grants_Registrations-v1.6.pdf.

HHS requires all entities that plan to apply for, and ultimately receive, Federal grant funds from any HHS Agency, or receive subawards directly from recipients of those grant funds to:

• Be registered in at Sam.gov prior to submitting an application or plan;

• Maintain an active registration at www.sam.gov with current information at all times during which it has an active award or an application or plan under consideration by an HHS agency; and

• Provide its active DUNS number in each application or plan it submits to an HHS agency.

ACF is prohibited from making an award to an applicant has not complied with these requirements. If, at the time an award is ready to be made, if the intended recipient has not complied with these requirements, ACF:

• May determine that the applicant is not qualified to receive an award; and

• May use that determination as a basis for making an award to another applicant.

Additionally, all first-tier subaward recipients (i.e., direct subrecipients) must have an active DUNS number at the time the subaward is made.

IV. Application Requirements

This section includes application requirements for FVPSA grants for Coalitions, as follows:

Content of Application Submission

The Coalition application must be signed by the Executive Director of the Coalition or the official designated as responsible for the administration of the grant. The application must contain the following information:

(1) A description of the process and anticipated outcomes (including timelines and specific activities that lead to desired outcomes) of utilizing these Federal funds to work with family violence, domestic violence, and dating violence service programs and providers of direct services to encourage appropriate and comprehensive responses to family violence, domestic violence, and dating violence against adults or youth within the State, including providing training and technical assistance and conducting statewide needs assessments (section 10411(d)(1)); include in the statewide needs assessment description a statement of how the needs assessment is undertaken in coordination and collaboration with the State's Plan for FVPSA formula grant funding and how representatives of underserved communities and racial and ethnic minority populations are included in the planning and decision-making;

(2) A description of the process undertaken and procedures developed to participate in the planning and monitoring of the distribution of FVPSA State subgrants and subgrant funds (section 10411(d)(2)), as well as the administration of FVPSA State-funded grant programs and projects;

(3) A description of collaborations along with anticipated outcomes (including timelines and specific activities that lead to desired outcomes) with service providers and community-based organizations to address the needs of family violence, domestic violence, and dating violence victims, and their dependents, who are members of racial and ethnic minority populations and underserved populations (section 10411(d)(3)); also include a description of the training or technical assistance or other activities provided to direct service providers to ensure programs are welcoming and accessible; examples of such underserved populations include, but are not limited to, the Lesbian, Gay, Bisexual, and Transgender (LGBT) communities; adolescents; men; immigrants; and human trafficking victims.

(4) A description of collaborations and anticipated outcomes (including timelines and specific activities that lead to desired outcomes) for providing information to entities in such fields as housing, health care, mental health, social welfare, or business to support the development and implementation of effective policies, protocols, and programs that address the safety and support needs of adult and youth victims of family violence, domestic violence, or dating violence (section 10411(d)(4));

(5) A description of work and anticipated outcomes (including timelines and specific activities that lead to desired outcomes) to encourage appropriate responses to cases of family violence, domestic violence, or dating violence against adults or youth, including by working with judicial and law enforcement officers (Section 10411(d)(5)) unless the applicant coalition satisfies the exception described in paragraph (7) below;

(6) A description of activities and anticipated outcomes (including timelines and specific activities that lead to desired outcomes) associated with working with family law judges, criminal court judges, child protective service agencies, and children's advocates to develop appropriate responses to child custody and visitation issues in cases of child exposure to family violence, domestic violence, or dating violence, and in cases in which family violence, domestic violence, or dating violence is present and child abuse is present (Section 10411(d)(6)) unless the applicant coalition satisfies the exception described in paragraph (7) below.

(7) If the applicant coalition uses funds received under the Violence Against Women Act for State domestic violence coalitions for the purposes described in paragraphs (5) and (6) above and is coordinating those activities with the State's STOP (Services, Training, Officers, Prosecutors) formula grant activities that address those purposes, the applicant Coalition shall not be required to undertake additional activities. If applicable, the applicant Coalition must provide a statement of assurance that funds for the referenced purposes are received from the Office on Violence Against Women (OVW), U.S. Department of Justice, and that the activities are coordinated with the State's STOP formula grant activities, (Section 10411(e)(1) and (2)); as part of the assurance the applicant coalition must also describe its activities in those OVW-funded areas including those in collaboration with the State STOP grant activities;

(8) A description of work and anticipated outcomes (including timelines and specific activities that lead to desired outcomes) to provide information to the public about prevention of family violence, domestic violence, and dating violence, including information targeted to underserved communities; examples of such communities include, but are not limited to, LGBT communities, adolescents, male victims, immigrants, and human trafficking victims (section 10411(d)(7));

(9) A description of collaborations (including timelines, specific activities, and outcomes) with Indian tribes and tribal organizations (and corresponding Native Hawaiian groups and communities) to address the needs of Native American (including Alaska Native) and Native Hawaiian victims of family violence, domestic violence, or dating violence, as applicable in the State (section 10411(d)(8)). Note: Tribes have special sovereign status and, as such, collaborations with them must include the opportunity for Coalition membership provided they meet general membership eligibility requirements that are not impediments to their special sovereign status; Coalitions are urged to seek technical assistance, if needed, from the National Indigenous Women's Resource Center for assistance in meeting this program requirement. Coalitions may include a description of the technical assistance received as well as plans to implement the technical assistance to support their applications;

(10) A description of work and anticipated outcomes (including timelines and activities) associated with other activities to support the development of policies, protocols, and procedures to enhance domestic violence intervention and prevention in the State (section 10402(11)); also include a description of the participation of underserved and culturally specific populations in the planning and decision-making regarding any additional work identified in this requirement;

(11) To support ACYF priorities as described in Section 1. c. Trauma-Informed Programming, a description of work planned (including timelines and activities) to gauge the activities of domestic violence programs offering trauma-informed services that address lifetime exposure to violence, including trauma-focused intervention strategies. Such work shall also include a capacity assessment of all member programs to identify those needing additional training, technical assistance and support related to trauma-informed service provision;

(12) A description of activities to describe the applicant Coalition's role as an information clearinghouse, primary point of contact, and resource center on domestic violence for the State; include the participation of underserved and culturally specific populations in identifying the kinds of resource information and other data needed to meet the unique needs of such populations.

(13) The following documentation that certifies the status of the Coalition must be included in the grant application:

(a) A copy of a currently valid 501(c)(3) certification letter from the IRS stating private, non-profit status; or a copy of the applicant's listing in the IRS' most recent list of tax-exempt organizations described in section 501(c)(3) of the IRS code;

(b) To demonstrate compliance with section 10402(11):

(i) A current list of the organizations operating programs for victims of domestic violence in the State; a list of the primary-purpose domestic violence services providers in the State; and, the applicant Coalition's current membership list by organization, including a notation of culturally specific organizations represented in the membership structure (see Section III. Eligibility);

(ii) A list of the applicant Coalition's current Board of Directors, with each individual's organizational affiliation and the Chairperson identified (see Section III. Eligibility);

(14) A list of any Coalition or contractual positions to be supported by funds from this grant;

(15) A budget narrative that clearly describes the planned expenditure of funds under this grant including a provision that sets aside funds for travel expenses for up to two staff to the Annual State Domestic Violence Coalition grantee meeting;

(16) A description of the applicant's organizational policies and procedures to maintain victim confidentiality, as well as activities, training, and/or technical assistance to support member programs' confidentiality practices to support victim safety; and, a description of the activities undertaken with the FVPSA state administrator to ensure victim confidentiality in domestic violence programs.

Forms, Assurances, and Certifications

Applicants seeking financial assistance under this announcement must submit the listed Standard Forms (SFs) and certifications. All required Standard Forms and certifications are available at the Grants.gov Forms Repository unless specified otherwise.

Additional Assurance and Policy

Each application must provide a signed copy of the additional assurance and policy in Appendices A and E, respectively.

Forms/certifications | Description | Where Found
Certification Regarding Lobbying | Required of all applicants at the time of their application. If not available with the application, it must be submitted prior to the award of the grant | Available at www.acf.hhs.gov/grants/grants_resources.html.
SF-LLL—Disclosure of Lobbying Activities | If any funds have been paid or will be paid to any person for influencing or attempting to influence an officer or employee of any agency, a Member of Congress, an officer or employee of Congress, or an employee of a Member of Congress in connection with this commitment providing for the United States to insure or guarantee a loan, the applicant shall complete and submit the SF-LLL, “Disclosure Form to Report Lobbying,” in accordance with its instructions. Applicants must furnish an executed copy of the Certification Regarding Lobbying prior to award | “Disclosure Form to Report Lobbying” is available at www.acf.hhs.gov/grants/grants_resources.html.
Survey on Ensuring Equal Opportunity for Applicants | Non-profit private organizations (not including private universities) are encouraged to submit the survey with their applications. Submission of the survey is voluntary. Applicants applying electronically may submit the survey along with the application as part of an appendix or as a separate document. Hard copy submissions should include the survey in a separate envelope | Available at www.acf.hhs.gov/grants/grants_resources.html.
The needs of lesbian, gay, bisexual, transgender, and questioning youth are taken into consideration in applicants program design | See Appendix E for submission requirements | See Appendix E for the complete policy description.

Paperwork Reduction Disclaimer

The Project Description information collection is approved under OMB control number 0970-0280, which expires November 30, 2014.

As required by the Paperwork Reduction Act, 44 U.S.C. 3501-3520, the public reporting burden for the project description is estimated to average 10 hours per response, including the time for reviewing instructions, gathering and maintaining the data needed, and reviewing the collection of information. The Project Description information collection is approved under OMB control number 0970-0280, which expires November 30, 2014. An agency may not conduct or sponsor, and a person is not required to respond to, a collection of information unless it displays a currently valid OMB control number.

Funding Restrictions

The Consolidated Appropriations Act, 2012 (Pub. L. 112-74), enacted December 23, 2011, limits the salary amount that may be awarded and charged to ACF mandatory and discretionary grants. Award funds issued under this announcement may not be used to pay the salary, or any percentage of salary, to an individual at a rate in excess of Executive Level II. The Executive Level II salary of the Federal Executive Pay scale is $179,700 (/www.opm.gov/oca/12tables/html/ex.asp). This amount reflects an individual's base salary exclusive of fringe benefits and any income that an individual may be permitted to earn outside of the duties to the applicant organization. This salary limitation also applies to subawards/subcontracts under an ACF mandatory and discretionary grant.

Costs of organized fund raising, including financial campaigns, endowment drives, solicitation of gifts and bequests, and similar expenses incurred solely to raise capital or obtain contributions, are considered unallowable costs under grants awarded under this announcement.

Construction is not an allowable activity or expenditure under this grant award.

Application Submission

Applications should be sent or delivered to:

Administration for Children and Families,

Administration on Children, Youth and Families,

Family and Youth Services Bureau,

Division of Family Violence Prevention and Services,

ATTN: Kenneth E. Noyes, J.D., 1250 Maryland Avenue SW., Suite 8212, Washington, DC 20024

V. Award Administration Information

Administrative and National Policy Requirements

Awards issued under this announcement are subject to the uniform administrative requirements and cost principles of 45 CFR Part 74 (Awards and Subawards to Institutions of Higher Education, Hospitals, Other Nonprofit Organizations, and Commercial Organizations) or 45 CFR Part 92 (Grants and Cooperative Agreements to State, Local, and Tribal Governments). The Code of Federal Regulations (CFR) is available at www.gpo.gov.

An application funded with the release of Federal funds through a grant award, does not constitute, or imply, compliance with Federal regulations. Funded organizations are responsible for ensuring that their activities comply with all applicable Federal regulations.

Equal Treatment for Faith-Based Organizations

Grantees are also subject to the requirements of 45 CFR 87.1(c), Equal Treatment for Faith-Based Organizations, which says, “Organizations that receive direct financial assistance from the [Health and Human Services] Department under any Department program may not engage in inherently religious activities such as worship, religious instruction, or proselytization, as part of the programs or services funded with direct financial assistance from the Department.” Therefore, organizations must take steps to completely separate the presentation of any program with religious content from the presentation of the Federally funded program by time or location in such a way that it is clear that the two programs are separate and distinct. If separating the two programs by time but presenting them in the same location, one program must completely end before the other program begins.

A faith-based organization receiving HHS funds retains its independence from Federal, State, and local governments, and may continue to carry out its mission, including the definition, practice, and expression of its religious beliefs. For example, a faith-based organization may use space in its facilities to provide secular programs or services funded with Federal funds without removing religious art, icons, scriptures, or other religious symbols. In addition, a faith-based organization that receives Federal funds retains its authority over its internal governance, and it may retain religious terms in its organization's name, select its board members on a religious basis, and include religious references in its organization's mission statements and other governing documents in accordance with all program requirements, statutes, and other applicable requirements governing the conduct of HHS-funded activities.

Regulations pertaining to the Equal Treatment for Faith-Based Organizations, which includes the prohibition against Federal funding of inherently religious activities, “Understanding the Regulations Related to the Faith-Based and Neighborhood Partnerships Initiative” are available at www.hhs.gov/partnerships/about/regulations/. Additional information, resources, and tools for faith-based organizations is available through The Center for Faith-based and Neighborhood Partnerships Web site at www.hhs.gov/partnerships/index.html and at the Administration for Children & Families: Toolkit for Faith-based and Community Organizations.

Requirements for Drug-Free Workplace

The Drug-Free Workplace Act of 1988 (41 U.S.C. 8102 et seq.) requires that all organizations receiving grants from any Federal agency agree to maintain a drug-free workplace. By signing the application, the Authorizing Official agrees that the grantee will provide a drug-free workplace and will comply with the requirement to notify ACF if an employee is convicted of violating a criminal drug statute. Failure to comply with these requirements may be cause for debarment. Government-wide requirements for Drug-Free Workplace for Financial Assistance are found in 2 CFR part 182; HHS implementing regulations are set forth in 2 CFR 382.400. All recipients of ACF grant funds must comply with the requirements in Subpart B—Requirements for Recipients Other Than Individuals, 2 CFR 382.225. The rule is available at http://ecfr.gpoaccess.gov/cgi/t/text/text-idx?c=ecfr;sid=18b5801410be6af416dc258873ffb7ec;rgn=div2;view=text;node=20091112%3A1.1;idno=49;cc=ecfr.

Debarment and Suspension

HHS regulations published in 2 CFR part 376 implement the government-wide debarment and suspension system guidance (2 CFR part 180) for HHS' non-procurement programs and activities. “Non-procurement transactions” include, among other things, grants, cooperative agreements, scholarships, fellowships, and loans. ACF implements the HHS Debarment and Suspension regulations as a term and condition of award. Grantees may decide the method and frequency by which this determination is made and may check the Excluded Parties List System (EPLS) located at www.sam.gov/, although checking the EPLS is not required. More information is available at www.acf.hhs.gov/grants/grants_resources.html.

Pro-Children Act

The Pro-Children Act of 2001, 20 U.S.C. 7181 through 7184, imposes restrictions on smoking in facilities where federally funded children's services are provided. HHS grants are subject to these requirements only if they meet the Act's specified coverage. The Act specifies that smoking is prohibited in any indoor facility (owned, leased, or contracted for) used for the routine or regular provision of kindergarten, elementary, or secondary education or library services to children under the age of 18. In addition, smoking is prohibited in any indoor facility or portion of a facility (owned, leased, or contracted for) used for the routine or regular provision of federally funded health care, day care, or early childhood development, including Head Start services, to children under the age of 18. The statutory prohibition also applies if such facilities are constructed, operated, or maintained with Federal funds. The statute does not apply to children's services provided in private residences, facilities funded solely by Medicare or Medicaid funds, portions of facilities used for inpatient drug or alcohol treatment, or facilities where WIC coupons are redeemed. Failure to comply with the provisions of the law may result in the imposition of a civil monetary penalty of up to $1,000 per violation and/or the imposition of an administrative compliance order on the responsible entity.

VI. Reporting Requirements

Performance Progress Reports (PPR)

The Coalition grantee must submit an annual report of activities describing the coordination, training and technical assistance, needs assessment, and comprehensive planning activities carried out pursuant to its activities as delineated in its response to this announcement. Additionally, the Coalition must report on the public information and education services provided; the activities conducted in conjunction with judicial and law enforcement agencies notwithstanding that such activities may be conducted pursuant to a coalition grant from the Office on Violence Against Women, U.S. Department of Justice, in coordination with the applicable State's STOP formula grant activities as described in Section IV. Application Requirements, number 7; the actions conducted in conjunction with other agencies, such as the State child welfare agency, notwithstanding that such activities may be conducted pursuant to a coalition grant from the Office on Violence Against Women, U.S. Department of Justice, in coordination with the applicable State's STOP formula grant activities as described in Section IV. Application Requirements, number 7; activities conducted in conjunction with community-based, culturally specific service providers or organizations serving or representing underserved communities; and any other activities undertaken under this grant award. All activities should include both a narrative explanation and statistical data to support the activities reported. The annual report also must provide an assessment of the effectiveness of grant-supported activities. Further guidance regarding assessment requirements will be provided in 2013. Any evaluation activities conducted with FVPSA funds must also be reported including submission of final evaluation reports, if any. This form is found at www.acf.hhs.gov/programs/fysb/resource/ppr-fvpsa-coalitions.

The annual report must be submitted using the Standard Form—Performance Progress Report (SF-PPR) applicable to this program.

The annual report is due 90 days after the end of the fiscal year in which the grant is awarded; i.e., December 29. Annual reports should be sent to:

Family Violence Prevention and Services Program,

Family and Youth Services Bureau,

Administration on Children, Youth and Families,

Administration for Children and Families,

Attention: Kenneth E. Noyes, J.D., 1250 Maryland Avenue SW., Room 8212,

Washington, DC 20024.

Please note that HHS may suspend funding for an approved application if any applicant fails to submit an annual performance report or if the funds are expended for purposes other than those set forth under this announcement.

Federal Financial Reports (FFR)

Grantees must submit annual Financial Status Reports. The SF-425 is due December 29, 2013. The final SF-425 is due December 29, 2014. The SF-425 can be found at www.whitehouse.gov/omb/grants/grants_forms.html. Grantees have the option to submit their reports online through the Online Data Collection (OLDC) system at https://extranet.acf.hhs.gov/ssi.

Failure to submit reports on time may be a basis for withholding grant funds, suspension, or termination of the grant. In addition, all funds reported after the obligation period will be recouped. Completed reports should be sent to:

Matthew McMahon, Program Specialist,

Office of Grants Management,

Office of Administration,

Administration for Children and Families,

370 L'Enfant Promenade, SW., 6th Floor, Washington, DC 20447.

Fillable versions of the SF-425 form in Adobe PDF and MS-Excel formats, along with instructions, are available at www.whitehouse.gov/omb/grants_forms, www.forms.gov, and on the ACF Funding Opportunity Web site Forms page.

Also note that a separate, quarterly financial report is required by the Division of Payment Management using the SF-425. The Division of Payment Management's online Payment Management System (PMS) is required for filing quarterly reports and is found at the following address: www.dpm.psc.gov. For further assistance, please call the HHS helpline at 877-614-5533.

VII. FFATA Subaward and Executive Compensation

Awards issued as a result of this funding opportunity may be subject to the Transparency Act subaward and executive compensation reporting requirements of 2 CFR Part 170. See ACF's Award Term for Federal Financial Accountability and Transparency Act (FFATA) Subaward and Executive Compensation Reporting Requirement implementing this requirement and additional award applicability information.

ACF has implemented the use of the SF-428 Tangible Property Report and the SF-429 Real Property Status Report for all grantees. Both standard forms are available at www.whitehouse.gov/omb/grants_forms/.

VIII. Agency Contact

Program Office Contact

For Further Information Contact: Ken Noyes at (202) 205-7891 or email at: kenneth.noyes@acf.hhs.govmailto:.

Appendices

Required Assurance, Certification and Policy:

A. Programmatic Assurances

B. Assurance of Compliance with Grant Requirements

C. Certification Regarding Lobbying

D. Designated State Domestic Violence Coalitions

E. LGBTQ Accessibility Policy

Dates: The application due date is April 4, 2013.

For Further Information Contact: Kenneth E. Noyes, J.D. at (202) 205-7891 or email at: kenneth.noyes@acf.hhs.gov.

Bryan Samuels
Commissioner, Administration on Children, Youth and Families.

Appendix A—Programmatic Assurances

The grantee certifies that it will comply with the following assurances under the Family Violence Prevention and Services Act, 42 U.S.C. 10401, et seq.

(1) The applicant Coalition will use grant funds awarded under the Family Violence Prevention and Services Act (FVPSA) for administration and operations to further the purposes of family violence, domestic violence, and dating violence (as defined in section 10402(2), (3), and (4)).

(2) The applicant Coalition will use grant funds to work with local family violence, domestic violence, and dating violence service programs and providers of direct services to encourage appropriate and comprehensive responses to family violence, domestic violence, and dating violence against adults or youth within the State (section 10411(d)(1)).

(3) The applicant Coalition will undertake and develop procedures to participate in the planning and monitoring of the distribution of FVPSA State subgrants and subgrant funds (section 10411(d)(2), as well as the administration of FVPSA State-funded grant programs and projects.

(4) The applicant Coalition will use grant funds to work in collaboration with service providers and community-based organizations to address the needs of family violence, domestic violence, and dating violence victims, and their dependents, who are members of racial and ethnic minority populations and underserved populations (section 10411(d)(3)).

(5) The applicant Coalition will use grant funds to collaborate with and provide information to entities in such fields as housing, health care, mental health, social welfare, or business to support the development and implementation of effective policies, protocols, and programs that address the safety and support needs of adult and youth victims of family violence, domestic violence, or dating violence (section 10411(d)(4)).

(6) The applicant Coalition will use grant funds to encourage appropriate responses to cases of family violence, domestic violence, or dating violence against adults or youth, including working with judicial and law enforcement agencies (section 10411(d)(5)). However, the applicant Coalition receiving funds under the FVPSA is not required to use funds received under the FPVSA if the Coalition provides an annual assurance to the Division of Family Violence Prevention that the Coalition is: (1) Using funds received under the Violence Against Women Act for State Domestic Violence Coalitions for activities, collaboration, and coordination with judicial and law enforcement officers (section 2001(c)(1)) of the Omnibus Crime Control and Safe Streets Act of 1968, 42 U.S.C. 3796gg(c)(1); and, (2) coordinating the activities carried out by the Coalition with the State's STOP (Services, Training, Officers, Prosecutors) activities pursuant to the Violence Against Women Act (part T of title I of the Omnibus Crime Control and Safe Streets Act of 1968, 42 U.S.C. 3796gg et seq.) that addresses those purposes (section 10411(e)).

(7) The applicant Coalition will use grant funds to work with family law judges, criminal court judges, child protective service agencies, and children's advocates to develop appropriate responses to child custody and visitation issues in cases of child exposure to family violence, domestic violence, or dating violence in cases in which—(1) family violence, domestic violence, or dating violence is present; and, (2) child abuse is present (section 10411(d)(6)). However, the applicant Coalition receiving funds under the FVPSA is not required to use funds received under the FPVSA if the Coalition provides an annual assurance to the Division of Family Violence Prevention that the coalition is: (1) Using funds received under the Violence Against Women Act for State Domestic Violence Coalitions to address activities, training, and collaborations with family and court judges, child welfare agencies, and children's advocates, as well as responding to child custody and visitation issues when family violence, domestic violence, or dating violence are present and child abuse is present (section 2001(c)(1)) of the Omnibus Crime Control and Safe Streets Act of 1968, (42 U.S.C. 3796gg(c)(1)); and, (2) coordinating the activities carried out by the coalition with the State's STOP activities under part T of title I of the Omnibus Crime Control and Safe Streets Act of 1968 (42 U.S.C. 3796gg et seq.) that addresses those purposes (section 10411(e)).

(8) The applicant Coalition will use grant funds to provide information to the public about prevention of family violence, domestic violence, and dating violence, including information targeted to underserved populations (section 10411(d)(7)).

(9) The applicant Coalition will use grant funds to collaborate with Indian tribes and tribal organizations (and corresponding Native Hawaiian groups or communities) to address the needs of Indian (including Alaska Native) and Native Hawaiian victims of family violence, domestic violence, or dating violence, as applicable in the State (section 10411(d)(8)).

(10) The applicant Coalition will prohibit discrimination on the basis of age, handicap, sex, race, color, national origin or religion, as described in section 10406(c)(2).

(11) The applicant Coalition has established policies, procedures, and protocols to ensure compliance with the provisions of section 10406(c)(5) regarding non-disclosure of confidential or private information.

(12) Pursuant to section 10406(c)(5) the applicant will comply with requirements imposed by that section, which include, but are not limited to: (1) The grantee will not disclose any personally identifying information collected in connection with services requested (including services utilized or denied), through the grantee's funded activities, or reveal personally identifying information without informed, written, reasonably time-limited consent by the person about whom information is sought, whether for the FVPSA-funded activities or any other Federal or State program and in accordance with Section 10406(c)(5)(B)(ii); (2) the grantee will not release information compelled by statutory or court order unless adhering to the requirements of section 10406(c)(5)(C); (3) the grantee may share non-personally identifying information in the aggregate for the purposes enunciated in section 10406(c)(5)(D)(i) as well as for other purposes found in section 10406(c)(5)(D)(ii) and (iii).

(13) The applicant Coalition will not use grant funds, directly or indirectly, to influence the issuance, amendment, or revocation of any Executive Order or similar legal document by any Federal, State, or local agency, or to undertake to influence the passage or defeat of any legislation by the Congress, or any State or local legislative body, or State proposals by initiative petition, except where representatives of the Coalition are testifying or making other appropriate communications when formally requested to do so by a legislative body, a committee, or a member of such organization, or in connection with legislation or appropriations directly affecting the activities of the Coalition or any member of the Coalition (Section 10411(f)).

Name and Signature

Title

Organization

Appendix B—Assurance of Compliance With Grant Requirements

The undersigned certifies that:

The applicant Coalition will not use grant funds, directly or indirectly, to influence the issuance, amendment, or revocation of any Executive Order or similar legal document by any Federal, State, or local agency, or to undertake to influence the passage or defeat of any legislation by Congress, or any State or local legislative body, or State proposals by initiative petition, except where representatives of the Coalition are testifying or making other appropriate communications, either when formally requested to do so by a legislative body, a committee, or a member of such organization, or in connection with legislation or appropriations directly affecting the activities of the Coalition (section 10411(f)).

The applicant Coalition will prohibit discrimination on the basis of age, disability, sex, race, color, national origin, or religion, as described in section 10406(c)(2).

Signature

Title

Organization

Appendix C—Certification Regarding Lobbying

Certification for Contracts, Grants, Loans, and Cooperative Agreements

The undersigned certifies, to the best of his or her knowledge and belief, that:

No Federal appropriated funds have been paid or will be paid, by or on behalf of the undersigned, to any person for influencing or attempting to influence an officer or employee of an agency, a Member of Congress, an officer or employee of Congress, or an employee of a Member of Congress in connection with the awarding of any Federal contract, the making of any Federal grant, the making of any Federal loan, the entering into of any cooperative agreement, and the extension, continuation, renewal, amendment, or modification of any Federal contract, grant, loan, or cooperative agreement.

If any funds other than Federal appropriated funds have been paid or will be paid to any person for influencing or attempting to influence an officer or employee of any agency, a Member of Congress, an officer or employee of Congress, or an employee of a Member of Congress in connection with this Federal contract, grant, loan, or cooperative agreement, the undersigned shall complete and submit Standard Form-LLL, “Disclosure Form to Report Lobbying,” in accordance with its instructions.

The undersigned shall require that the language of this certification be included in the award documents for all subawards at all tiers (including subcontracts, subgrants, and contracts under grants, loans, and cooperative agreements) and that all subrecipients shall certify and disclose accordingly. This certification is a material representation of fact upon which reliance was placed when this transaction was made or entered into. Submission of this certification is a prerequisite for making or entering into this transaction imposed by section 1352, title 31, U.S. Code. Any person who fails to file the required certification shall be subject to a civil penalty of not less than $10,000 and not more than $100,000 for each such failure.

Statement for Loan Guarantees and Loan Insurance

The undersigned states, to the best of his or her knowledge and belief, that:

If any funds have been paid or will be paid to any person for influencing or attempting to influence an officer or employee of any agency, a Member of Congress, an officer or employee of Congress, or an employee of a Member of Congress in connection with this commitment providing for the United States to insure or guarantee a loan, the undersigned shall complete and submit Standard Form-LLL, “Disclosure Form to Report Lobbying,” in accordance with its instructions. Submission of this statement is a prerequisite for making or entering into this transaction imposed by section 1352, title 31, U.S. Code. Any person who fails to file the required statement shall be subject to a civil penalty of not less than $10,000 and not more than $100,000 for each such failure.

Signature

Title

Organization

Appendix D

State Domestic Violence Coalitions as Designated by the U.S. Department of Health and Human Services, Administration for Children and Families, Administration on Children, Youth and Families as of December 2011

Coalition name | City | State
Alabama Coalition Against Domestic Violence | Montgomery | AL
Alaska Network on Domestic Violence and Sexual Assault | Juneau | AK
American Samoa Alliance Against Domestic and Sexual Violence | Pago Pago | AS
Arizona Coalition Against Domestic Violence | Phoenix | AZ
Arkansas Coalition Against Domestic Violence | Little Rock | AR
California Partnership to End Domestic Violence | Sacramento | CA
Colorado Coalition Against Domestic Violence | Denver | CO
Connecticut Coalition Against Domestic Violence | E. Hartford | CT
Delaware Coalition Against Domestic Violence | Wilmington | DE
District of Columbia Coalition Against Domestic Violence | Washington | DC
Florida Coalition Against Domestic Violence | Tallahassee | FL
Georgia Coalition Against Domestic Violence | Decatur | GA
Guam Coalition Against Sexual Assault and Family Violence | Hagatna | GU
Hawaii State Coalition Against Domestic Violence | Honolulu | HI
Idaho Coalition Against Sexual & Domestic Violence | Boise | ID
Illinois Coalition Against Domestic Violence | Springfield | IL
Indiana Coalition Against Domestic Violence | Indianapolis | IN
Iowa Coalition Against Domestic Violence | Des Moines | IA
Kansas Coalition Against Sexual & Domestic Violence | Topeka | KS
Kentucky Domestic Violence Association | Frankfort | KY
Louisiana Coalition Against Domestic Violence | Baton Rouge | LA
Maine Coalition to End Domestic Violence | Augusta | ME
Maryland Network Against Domestic Violence | Bowie | MD
Jane Doe, Inc.—Massachusetts Coalition Against Sexual Assault and Domestic Violence | Boston | MA
Michigan Coalition Against Domestic & Sexual Violence | Okemos | MI
Minnesota Coalition for Battered Women | St. Paul | MN
Mississippi Coalition Against Domestic Violence | Jackson | MS
Missouri Coalition Against Domestic & Sexual Violence | Jefferson City | MO
Montana Coalition Against Domestic & Sexual Violence | Helena | MT
Nebraska Domestic Violence & Sexual Assault Coalition | Lincoln | NE
Nevada Network Against Domestic Violence | Reno | NV
New Hampshire Coalition Against Domestic & Sexual Violence | Concord | NH
New Jersey Coalition for Battered Women | Trenton | NJ
New Mexico Coalition Against Domestic Violence | Albuquerque | NM
New York State Coalition Against Domestic Violence | Albany | NY
North Carolina Coalition Against Domestic Violence | Durham | NC
Northern Marianas Coalition Against Sexual and Domestic Violence | Saipan | MP
North Dakota Council on Abused Women's Services | Bismarck | ND
Ohio Domestic Violence Network | Columbus | OH
Oklahoma Coalition Against Domestic Violence & Sexual Assault | Oklahoma City | OK
Oregon Coalition Against Domestic Violence & Sexual Assault | Portland | OR
Pennsylvania Coalition Against Domestic Violence | Harrisburg | PA
Coordinadora Paz para la Mujer, Inc. (Puerto Rico Coalition Against Domestic Violence) | San Juan | PR
Rhode Island Coalition on Domestic Violence | Warwick | RI
South Carolina Coalition Against Domestic Violence & Sexual Assault | Columbia | SC
South Dakota Coalition Against Domestic Violence & Sexual Assault | Pierre | SD
Tennessee Coalition Against Domestic & Sexual Violence | Nashville | TN
Texas Council on Family Violence | Austin | TX
Utah Domestic Violence Council | Salt Lake City | UT
Vermont Network Against Domestic & Sexual Violence | Montpelier | VT
Virginia Sexual & Domestic Violence Action Alliance | Richmond | VA
Virgin Islands Domestic Violence and Sexual Assault Council | Kingshill | VI
Washington State Coalition Against Domestic Violence | Seattle | WA
West Virginia Coalition Against Domestic Violence | Elkview | WV
Wisconsin Coalition Against Domestic Violence | Madison | WI
Wyoming Coalition Against Domestic Violence & Sexual Assault | Laramie | WY

Appendix E—LGBTQ Accessibility Policy

As the Authorized Organizational Representative (AOR) signing this application on behalf of [Insert full, formal name of applicant organization]

I hereby attest and certify that:

The needs of lesbian, gay, bisexual, transgender, and questioning people are taken into consideration in applicant's programming. Applicant has considered how its programming will be inclusive of and non-stigmatizing toward such individuals. If not already in place, awardee must establish and publicize policies prohibiting harassment based on race, sexual orientation, gender, gender identity (or expression), religion, and national origin. The submission of an application for this funding opportunity constitutes an assurance that applicant has or will put such policies in place within 12 months of the award. Awardees should ensure that all staff members are trained to prevent and respond to harassment or bullying in all forms during the award period. Within 12 months of the award awardee must be prepared to monitor claims, address them seriously, and document their corrective action(s) so all programming beneficiaries are assured that the applicant organization and its programming is safe, inclusive, and non-stigmatizing by design and in operation.

Insert Date of Signature:

Print Name and Title of the AOR:

Signature of AOR:

[FR Doc. 2013-08027 Filed 04/04/2013 at 8:45 a.m.]

[FR Doc. 2013-08027 Filed 4-4-13; 8:45 am]

BILLING CODE 4184-32-P